ENVIRONMENTAL PROTECTION AGENCY

[EPA-R03-CBP-2021-0235; FRL-10022-50 Region 3]

Proposed Information Collection Request; Comment Request; Chesapeake Bay Program Citizen Stewardship Index, Diversity Profile, and Local Leadership Surveys

AGENCY: Environmental Protection Agency (EPA).

ACTION: Notice.

SUMMARY: The Environmental Protection Agency (EPA) is planning to submit an information collection request (ICR), “Chesapeake Bay Program Citizen Stewardship Index, Diversity Profile, and Local Leadership Surveys” (EPA ICR No. 2679.01, OMB Control No. 2003-NEW) to the Office of Management and Budget (OMB) for review and approval in accordance with the Paperwork Reduction Act (PRA). Before doing so, EPA is soliciting public comments on specific aspects of the proposed information collection as described in this document. This is a request for approval of a new collection. An Agency may not conduct or sponsor and a person is not required to respond to a collection of information unless it displays a currently valid OMB control number.

DATES: Comments must be submitted on or before July 2, 2021.

ADDRESSES: Submit your comments, referencing Docket ID No. EPA-R03-CBP-2021-0235, online using www.regulations.gov (our preferred method), by email to bisland.carin@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Tuana Phillips, U.S. Environmental Protection Agency Region III—Chesapeake Bay Program Office, mail code: 3CB10, Annapolis City Marina, Suite 109, 410 Severn Ave., Annapolis, MD 21403; telephone number: (410)-267-5704; fax number: 1-410-267-5777; email address: phillips.tuana@epa.gov

SUPPLEMENTARY INFORMATION:

Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The U.S. Environmental Protection Agency's (EPA) Chesapeake Bay Program (the Program) is interested in tracking its progress at attaining its goals under the 2014 Chesapeake Bay Watershed Agreement (the Agreement). To do this, the Program plans to implement three surveys: The Citizen Stewardship Survey, the Diversity Profile Survey, and the Local Leadership Survey.

EPA has specified the target audience and the implementation approach for each to maximize the data that can be obtained. The Citizen Stewardship Survey will be implemented as a multi-mode survey that includes phone, web, and mail components and will target residents living the Chesapeake Bay area, stratified by jurisdiction (states and the District of Columbia). The Diversity Profile Survey will be implemented among people who work on partnership efforts within the Bay area as a web-based survey. The Local Leadership Survey will be implemented among state and local elected officials involved in policy making in the Bay area also as a web-based survey.

The Program will be using the data from these three surveys to track it progress under the Stewardship goal of the 2014 Agreement. The Stewardship goal includes three outcomes: (1) Citizen stewardship, (2) local leadership, and (3) diversity. Three surveys under this ICR each address one of the outcomes and contributes to EPA's Government Performance and Results Act (GPRA) goals (EPA Goal 1, A Cleaner, Healthier Environment; Objective 1.2: Provide for Clean and Safe Water).

Each of the surveys under this ICR were funded and implemented by other partners in the Chesapeake Bay area in prior years. The Program determined that the best approach for continued implementation of these surveys would be for the EPA assume the responsibility for implementing these surveys; thus, EPA is seeking approval for implementing these surveys under this ICR.

Collecting these data and publishing them for public review will allow the public to track how well the Agreement is working to preserve and protect the Chesapeake Bay region from the standpoint of the Stewardship goal outlined in the Agreement. Overall, the Agreement contains 10 goals and their associated outcomes; data for the other nine goals are collected through other means. Combining the data for Stewardship goal outcomes from these surveys with the data for the other nine goals will provide the public will have a comprehensive picture of the progress being made to preserve and protect Chesapeake Bay watershed.

Form Numbers: None.

Respondents/affected entities: Stewardship survey: members of the general public; Local Leaders survey: individuals in local government leadership roles; Diversity Profile survey: individuals working at organizations to conserve/restore the Chesapeake Bay watershed.

Respondent's obligation to respond: voluntary.

Estimated number of respondents: 6,430 (total).

Frequency of response: once.

Total estimated burden: 2,298 hours (per year). Burden is defined at 5 CFR 1320.03(b).

Total estimated cost: $0 (per year), includes $0 annualized capital or operation & maintenance costs.

Changes in Estimates: This is a new collection.

Dated: April 22, 2021.
Michelle Price-Fay,
Acting Director, Chesapeake Bay Program Office.

[FR Doc. 2021-09247 Filed 4-30-21; 8:45 am]

BILLING CODE 6560-50-P